ENVIRONMENTAL PROTECTION AGENCY

[FRL-8292-5]

Proposed CERCLA Administrative Agreement for Recovery of Response Costs; Denova Superfund Site

AGENCY: Environmental Protection Agency (EPA).

ACTION: Notice; request for public comment.

SUMMARY: In accordance with Section 122(i) of the Comprehensive Environmental Response, Compensation, and Liability Act, as amended by the Superfund Amendments and Reauthorization Act (“CERCLA”), 42 U.S.C. 9622(i), notice is hereby given of a proposed Agreement for Recovery of Response Costs (“Agreement,” Region 9 Docket No. 9-2006-0025) pursuant to Section 122(h) of CERCLA concerning the Denova Superfund Site, (the “Site”), located in Rialto, California. The settling parties are Northrup Grumman, Lockheed Martin, the Boeing Company, Georgia Pacific, BNSF Railway Company, Royal Caribbean Cruises, JBL Inc., the Marquardt Company, Davis Wire Corp., Aerojet-General Corp., the Department of Energy (Lawrence Livermore National Laboratory), the Department of Energy (Sandia National Laboratory), NASA, the Department of the Interior and the Navy.

The Agreement compensates EPA and the County of San Bernardino Consolidated Fire District for past response costs related to the removal action taken at the Site. The Agreement provides for a total recovery of $1,246,160. The Agreement also provides the settling parties with contribution protection under CERCLA section 113(f)(2) for response cost paid under the Agreement.

For thirty (30) days following the date of publication of this Notice, the Agency will receive written comments relating to the proposed Agreement. The Agency's response to any comments will be available for public inspection at the Agency's Region IX offices, located at 75 Hawthorne Street, San Francisco, California 94105.

DATES: Comments must be submitted on or before April 27, 2007.

ADDRESSES: The proposed Agreement may be obtained from Judith Winchell, Docket Clerk, telephone (415) 972-3124. Comments regarding the proposed Agreement should be addressed to Judith Winchell (SFD-7) at United States EPA Region IX, 75 Hawthorne Street, San Francisco, California 94105, and should reference the Denova Superfund Site, Rialto, California, and USEPA Docket No. 9-2006-0025.

FOR FURTHER INFORMATION CONTACT: Michele Benson, Office of Regional Counsel, telephone (415) 972-3918, U.S. EPA Region IX, 75 Hawthorne Street, San Francisco, California 94105.

Dated: March 13, 2007.
Keith A. Takata,
Director, Superfund Division.

[FR Doc. E7-5664 Filed 3-27-07; 8:45 am]

BILLING CODE 6560-50-P